DEPARTMENT OF JUSTICE

Notice of Public Comment Period for Proposed Consent Decree Addenda Under the Clean Air Act

Under 28 CFR 50.7, notice is hereby given that, for a period of 30 days, the United States will receive public comments on proposed Third Addenda to Consent Decrees in United States, et al. v. Motiva Enterprises LLC, Equilon Enterprises LLC, and Deer Park Refining Limited Partnership, Civil Action No. H-01-0978, which were lodged with the United States District Court for the Southern District of Texas on June 17, 2004.

The original settlement was for civil penalties and injunctive relief pursuant to section 113(b) of the Clean Air Act (“CAA”), 42 U.S.C. 7413(b) (1983), amended by, 42 U.S.C. 7413(b) (Supp. 1991), covering nine refineries, and was lodged with the Court on March 21, 2001 and entered on August 20, 2001, as part of EPA's Petroleum Refinery Initiative. The proposed Addenda reflect the May 1, 2004 sale of the Delaware City, Delaware, refinery to the Premcor Refining Group Inc (“Premcor”). The two Addenda provide for the transition of responsibility for implementation of the injunctive relief programs at Delaware City. The proposed Addenda modify two of the Consent Decrees in this action: the Motiva Enterprises Decree, which covers injunctive relief at four Motiva refineries, including Delaware City, and the so-called “Heater and Boiler” Decree executed by Motiva, Equilon, and Deer Park Refining Limited Partnership, covering all nine refineries and pertaining to emission reductions from heaters and boilers. The Heater and Boiler Decree also contains the general settlement provisions, such as stipulated penalties, which apply to all Defendants, and Premcor.

The Department of Justice will receive for a period of thirty (30) days from the date of this publication comments relating to the Third Addenda to Consent Decree. Comments should be addressed to the Assistant Attorney General, Environment and Natural Resources Division, PO Box 7611, U.S. Department of Justice, Washington, DC 20044-7611, and should refer to: United States v. Motiva Enterprises LLC., D.J. Ref. 90-5-2-1-07209.

The proposed Addenda may be examined at the Office of the United States Attorney, Southern District of Texas, U.S. Courthouse, 515 Rusk, Houston, Texas 77002, and at EPA Region 6, 1445 Ross Avenue, Dallas, Texas 75202. During the public comment period the Third Addenda to the Consent Decrees may also be examined on the following Department of Justice Web site, http://www.usdoj.gov/enrd/open.htm. A copy of the Addenda may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.25 (25 cents per page reproduction cost) payable to the U.S. Treasury.

Robert D. Brook,
Assistant Chief, Environmental Enforcement Section, Environment and Natural Resources Division.

[FR Doc. 04-14888 Filed 6-30-04; 8:45 am]

BILLING CODE 4410-15-M